COMMISSION ON CIVIL RIGHTS

Agenda and Notice of Public Meeting of the New Hampshire Advisory Committee

Notice is hereby given, pursuant to the provisions of the rules and regulations of the U.S. Commission on Civil Rights (Commission), and the Federal Advisory Committee Act (FACA), that a planning meeting and press conference of the New Hampshire Advisory Committee to the Commission will be held at the Legislative Office Building, Room 207, 33 North State Street, Concord, NH, 03301, and will convene at 10 a.m. on Thursday, September 29, 2011. The purpose of the planning meeting is to plan future activities. The purpose of the press conference is provide an update on the Committee's report on gender disparities in state prisons.

Members of the public are entitled to submit written comments. The comments must be received in the regional office by Friday, October 28, 2011. Comments may be mailed to the Eastern Regional Office, U.S. Commission on Civil Rights, 624 9th Street, NW., Suite 740, Washington, DC 20425, fax to (202) 376-7548, or e-mail to ero@usccr.gov. Persons who desire additional information may contact the Eastern Regional Office at (202) 376-7533.

Deaf or hearing-impaired persons who will attend the meeting(s) and require the services of a sign language interpreter should contact the Eastern Regional Office at least ten (10) working days before the scheduled date of the meeting. Persons needing accessibility services should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, on September 13, 2011.
Peter Minarik,
Acting Chief, Regional Programs Coordination Unit.

[FR Doc. 2011-23837 Filed 9-16-11; 8:45 am]

BILLING CODE 6335-01-P